DEPARTMENT OF TRANSPORTATION

Federal Aviation Administration

Nineteenth Meeting: RTCA Special Committee 216, Aeronautical Systems Security (Joint Meeting With EUROCAE WG-72)

AGENCY: Federal Aviation Administration (FAA), U.S. Department of Transportation (DOT).

ACTION: Meeting Notice of RTCA Special Committee 216, Aeronautical Systems Security (Joint Meeting with EUROCAE WG-72).

SUMMARY: The FAA is issuing this notice to advise the public of the nineteenth meeting of RTCA Special Committee 216, Aeronautical Systems Security (Joint Meeting with EUROCAE WG-72).

DATES: The meeting will be held September 11-14, 2012, from 9 a.m.-5 p.m.

ADDRESSES: The meeting will be held at EASA, Ottoplatz 1, 50679 Koln, Germany. Contact Cyrille Rosay for information at 49-221-899-90-4045 or fax: 49-221-899-90-4545, or email: cyrille.rosay@ease.europa.eu.

FOR FURTHER INFORMATION CONTACT: The RTCA Secretariat, 1150 18th Street NW., Suite 910, Washington, DC, 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 216. The agenda will include the following:

Tuesday, September 11, 2012

Plenary

09:00-11:30

• Welcome

• Introduction, Logistics

• Eurocae Context Presentation

• Joint Plenary:

• Scope and purpose of this meeting with focus on ED-202A/DO-326A and ED-204

• Open Consultation/FRAC requirements & expectations

• Coordination between drafting groups

ED-201

11h30 to 17h00: Continuation of ED-201 work.

ED-202A/ED-203

11h30 to 17h00: Addressing resolution of Blocking Points. Interaction with ED-201/ED-204 drafting groups, where necessary:

• Segregation of & Interaction Between Security & Safety Processes

• Integration of AWSP with PRA principles

• Definition, Terminology and Use of SL/SAL/SEL/* * *

• Definition of “Security Environment” and how to treat its evolutionary nature and resulting consequences

• Scope of the Documents: Type Certificate, STC and Change to Type Design

• Consistency of (Table of) Contents between ED-202 & ED-203

ED-204

11h30 to 17h00: Continuation of ED-204 work. Interaction with ED-202 drafting group, where necessary.

September 12th & 13th

ED-202A/ED-203

09h00 to 17h00: Addressing resolution of Blocking Points. Interaction with ED-201/ED-204 drafting groups, where necessary.

ED-204

09h00 to 17h00: Continuation of ED-204 work. Interaction with ED-202 drafting group.

September 14th

Plenary

09h00 to 15h00: Joint Plenary:

• Achievements of this meeting with focus on ED-202A/DO-326A and ED-204

• Open items & Planning of activities

• Publication Schedule/Options for Open Consultation/FRAC

• Position of Regulatory Authorities: Go Ahead?

15:00 Wrap-Up, Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 10, 2012.
David Sicard,
Manager, Business Operations Branch, Federal Aviation Administration.

[FR Doc. 2012-20257 Filed 8-16-12; 8:45 am]

BILLING CODE 4910-13-P